OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the actions in the Section 301 investigation of China's acts, policies, and practices related to technology transfer, intellectual property, and innovation by excluding from additional duties certain products of China. This notice announces the U.S. Trade Representative's determination to extend the 178 current exclusions.

DATES: The modifications announced in the annexes to this notice extend the exclusions through 11:59 p.m. eastern daylight time on November 9, 2026.

FOR FURTHER INFORMATION CONTACT: For general questions about this notice, contact Senior Associate General Counsel Philip Butler at (202) 395-5725. For specific questions on customs classification or implementation of the product exclusions, contact traderemedy@cbp.dhs.gov.

SUPPLEMENTARY INFORMATION:

A. Background

On December 29, 2023, USTR invited the public to submit comments on whether to extend 352 previously reinstated exclusions and 77 COVID-related exclusions. See 88 FR 90225 (December 29, 2023) (the December 29, 2023 notice). On May 30, 2024, USTR announced the extension of 164 of these exclusions through May 31, 2025. See 89 FR 46948 (May 30, 2024) (the May 30, 2024 notice). In connection with the four-year review, on September 18, 2024, USTR announced fourteen exclusions covering certain solar manufacturing equipment. See 89 FR 76581 (September 18, 2024) (the September 18, 2024 notice). The fourteen exclusions were effective from January 1, 2024 through May 31, 2025. On May 31, 2025, USTR announced the further extension of the 164 exclusions extended in May 2024 and the fourteen exclusions granted in September 2024, through August 31, 2025. See 90 FR 23987 (June 5, 2025). These 178 exclusions were further extended for 90 days, through November 29, 2025. See 90 FR 42500 (September 2, 2025).

On September 16, 2025, USTR invited the public to submit comments on whether any of the 178 current exclusions warrant further extension beyond November 29, 2025. See 90 FR 44749 (the September 16, 2025 notice). The September 16, 2025 notice provides that the focus of the evaluation would be on the availability of products covered by the exclusion from sources outside of China, efforts undertaken to source products covered by the exclusion from the United States or third countries, why additional time is needed, and whether further extending the exclusion will likely contribute to a shift in sourcing the product outside of China. Additionally, USTR would consider whether further extending the exclusion is consistent with the Administration's priorities and how further extending the exclusion will impact U.S. interests, including the overall impact of the exclusion on the goal of obtaining the elimination of China's acts, policies, and practices covered in the Section 301 investigation.

On November 1, 2025, the White House announced a historic trade and economic deal reached between President Trump and President Xi Jinping of China.¹ Pursuant to this deal, the United States would further extend the 178 exclusions scheduled to expire on November 29, 2025, until November 10, 2026. Among other actions, China would continue its exclusion process and further extend existing exclusions through December 31, 2026, which would facilitate China's purchases of U.S. goods.

¹ Fact Sheet, The White House, President Donald J. Trump Strikes Deal on Economic and Trade Relations with China (Nov. 1, 2025), https://www.whitehouse.gov/fact-sheets/2025/11/fact-sheet-president-donald-j-trump-strikes-deal-on-economic-and-trade-relations-with-china/.

B. Determination To Extend Exclusions

The Section 301 statute, which is set out in Sections 301 to 308 of the Trade Act of 1974 (19 U.S.C. 2411-2418), includes authority for the U.S. Trade Representative to modify the action being taken in an investigation. In particular, Section 307(a)(1) authorizes the U.S. Trade Representative to modify or terminate any action taken under Section 301, subject to the specific direction, if any, of the President, if the burden or restriction on U.S. commerce of the acts, policies, and practices that are the subject of the action has increased or decreased, or the action is being taken under Section 301(b) and is no longer appropriate.

In light of the trade and economic deal reached between President Trump and President Xi Jinping of China, the direction of the President, and the factors set out in the September 16, 2025 notice, the U.S. Trade Representative has determined to extend the 178 current exclusions until November 10, 2026.

The U.S. Trade Representative's decision to further extend the 178 current exclusions takes into consideration the public comments received in response to the September 16, 2025 notice. In response to the notice, 147 of the current exclusions received comments supporting extension and claiming, inter alia, that products covered by the exclusion continue to be available only in limited quantities outside of China and additional time is needed to shift sourcing outside of China. Only ten of these exclusions also received comments opposing extension. Generally, commenters opposing extension claimed that products covered by an exclusion are available outside of China, and some comments asserted an adverse impact to a competing domestic industry. The U.S. Trade Representative's decision to extend these exclusions also takes into consideration public comments previously provided, the advice of the advisory committees, the advice of the interagency Section 301 Committee, and the direction of the President.

As indicated in the May 30, 2024 notice and the September 18, 2024 notice, the exclusion extensions in the annexes to this notice are available for any product that meets the description in the product exclusion. Further, the scope of each exclusion is governed by the scope of the ten-digit Harmonized Tariff Schedule of the United States (HTSUS) statistical reporting numbers and product descriptions set forth in U.S. notes 20(vvv)(i), 20(vvv)(ii), 20(vvv)(iii), and 20(vvv)(iv) and 20(www) to subchapter III of chapter 99 of the HTSUS.

U.S. Customs and Border Protection will issue instructions on entry guidance and implementation.

The U.S. Trade Representative may continue to consider further extensions and/or additional modifications as appropriate.

Annex A

The U.S. Trade Representative has determined to extend all exclusions under heading 9903.88.69 and U.S. notes 20(vvv)(i), 20(vvv)(ii), 20(vvv)(iii), and 20(vvv)(iv) to subchapter III of chapter 99 of the HTSUS. See 89 FR 46948 (May 30, 2024), 90 FR 23987 (June 5, 2025), and 90 FR 42500 (September 2, 2025). The extension is effective with respect to goods entered for consumption, or withdrawn from warehouse for consumption, on or after 12:01 a.m. eastern standard time on November 30, 2025, and before 11:59 p.m. eastern daylight time on November 9, 2026. Effective on November 30, 2025, the article description of heading 9903.88.69 of the HTSUS is modified by deleting “November 29, 2025,” and by inserting “November 9, 2026,” in lieu thereof.

Annex B

The U.S. Trade Representative has determined to extend all exclusions under heading 9903.88.70 and U.S. note 20(www) to subchapter III of chapter 99 of the HTSUS. See 89 FR 76581 (September 18, 2024), 90 FR 23987 (June 5, 2025), and 90 FR 42500 (September 2, 2025). The extension is effective with respect to goods entered for consumption, or withdrawn from warehouse for consumption, on or after 12:01 a.m. eastern standard time on November 30, 2025, and before 11:59 p.m. eastern daylight time on November 9, 2026. Effective on November 30, 2025, the article description of heading 9903.88.70 of the HTSUS is modified by deleting “November 29, 2025,” and by inserting “November 9, 2026,” in lieu thereof.

Jennifer Thornton,
General Counsel, Office of the United States Trade Representative.

[FR Doc. 2025-21671 Filed 11-28-25; 8:45 am]

BILLING CODE 3390-F4-P